DEPARTMENT OF ENERGY

Federal Energy Regulatory Commission

[Docket No. ER992948-002, et al.]

Baltimore Gas and Electric Company, et al.; Electric Rate and Corporate Filings

April 2, 2003.

The following filings have been made with the Commission. The filings are listed in ascending order within each docket classification.

1. Baltimore Gas and Electric Company

[Docket No. ER99-2948-002]

Constellation Power Source Generation, Inc.

[Docket No. ER00-2918-002]

Calvert Cliffs Nuclear Power Plant, Inc.

[Docket No. ER00-2917-002]

Constellation Power Source, Inc.

[Docket No. ER00-607-002]

Oleander Power Project, Limited Partnership

[Docket No. ER00-3240-001]

Holland Energy, LLC

[Docket No. ER01-558-001]

University Park Energy, LLC

[Docket No. ER01-557-001]

Wolf Hills Energy, LLC

[Docket No. ER01-559-001]

Big Sandy Peaker Plant, LLC

[Docket No. ER01-560-001]

Handsome Lake Energy, LLC

[Docket No. ER01-556-001]

Nine Mile Point Nuclear Station, LLC

[Docket No. ER01-1654-002]

High Desert Power Project, LLC

[Docket No. ER01-2641-002]

Constellation New Energy, Inc.

[Docket No. ER02-2567-002]

Constellation Power Source Maine, LLC

[Docket No. ER02-699-001]

Power Provider LLC

[Docket No. ER01-1949-002]

Take notice that on March 28, 2003, the above-referenced entities, collectively the “Constellation Entities,” submitted for filing with the Federal Energy Regulatory Commission (Commission) a triennial market power update pursuant to the Commission orders granting them market-based rate authorizations.

Comment Date: April 18, 2003.

2. Bayswater Peaking Facility, LLC

[Docket No. ER02-669-001]

Take notice that on March 28, 2003, Bayswater Peaking Facility, LLC (Bayswater), with its principal office at 700 Universe Blvd., Juno Beach, Florida 33408, filed with the Federal Energy Regulatory Commission (the Commission) a Change of Status regarding its Market-based Rate application.

Comment Date: April 18, 2003.

3. Nevada Power Company

[Docket No. ER03-340-001]

Take notice that on March 25, 2003, Nevada Power Company (Nevada Power) tendered for filing with the Federal Energy Regulatory Commission (Commission) in accordance with 18 CFR part 35 of the Commission's Rules and Regulations, a Notice of Cancellation of Service Agreement No. 101, Long-Term Firm Point-to-Point Transmission Service between Nevada Power Company and Reliant Energy Services, Inc. Nevada Power has requested an effective date for the cancellation of September 17, 2002.

Nevada Power states that this Notice of Cancellation is filed pursuant to the Commission's February 21, 2003 order in Docket No. ER03-340-000, and appropriate to Service Agreement No. 101 and the termination notice given by Reliant Energy Services, Inc. Nevada Power also states that copies of the filing were served upon Reliant Energy Services, Inc., and the Public Utilities Commission of Nevada.

Comment Date: April 15, 2003.

4. Nevada Power Company

[Docket No. ER03-340-002]

Take notice that on March 25, 2003, Nevada Power Company (Nevada Power) tendered for filing with the Federal Energy Regulatory Commission (Commission) in accordance with 18 CFR part 35 of the Commission's Rules and Regulations, a Notice of Cancellation of Service Agreement No. 100, Long-Term Firm Point-to-Point Transmission Service between Nevada Power Company and Pinnacle West Energy Corporation. Nevada Power has requested an effective date for the cancellation of September 17, 2002.

Nevada Power states that this Notice of Cancellation is filed pursuant to the Commission's February 21, 2003 Order in Docket No. ER03-340-000, and appropriate to Service Agreement No. 100 and the termination notice given by Pinnacle West Energy Corporation. Nevada Power also states that copies of the filing were served upon Pinnacle West Energy Corporation and the Public Utilities Commission of Nevada.

Comment Date: April 15, 2003.

5. Midwest Independent Transmission System Operator, Inc.

[Docket Nos. ER03-402-002]

Take notice that on March 28, 2003, the Midwest Independent Transmission System Operator, Inc. (Midwest ISO) tendered for filing proposed revisions to the Midwest ISO Open Access Transmission Tariff, FERC Electric Tariff, Second Revised Volume No. 1, in compliance with the Commission's Order in Midwest Independent Transmission System Operator Inc., 102 FERC ] 61,210 (2003). The Midwest ISO has requested an effective date of March 1, 2003 consistent with the Commission's Order on compliance.

The Midwest ISO states that it has electronically served a copy of this filing, without attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at www.midwestiso.org under the heading “Filings to FERC” for other interested parties in this matter. The Midwest ISO will provide hard copies to any interested parties upon request.

Comment Date: April 18, 2003.

6. Jamaica Bay Peaking Facility, LLC

[Docket No. ER03-623-001]

Take notice that on March 28, 2003, Jamaica Bay Peaking Facility, LLC (Jamaica Bay) tendered for filing an amendment to its application for authorization to sell wholesale power at market-based rates, and certain ancillary services at market-based rates into the New York market.

Jamaica Bay states that copies of this filing have been served on the New York State Public Service Commission, the Long Island Power Authority, and the Florida Public Service Commission.

Comment Date: April 18, 2003.

7. Entergy Services, Inc.

[Docket No. ER03-667-000]

Take notice that on March 28, 2003, Entergy Services, Inc. (Entergy), on behalf of Entergy Arkansas, Inc. (Entergy Arkansas), tendered for filing with the Federal Energy Regulatory Commission (Commission) a Notice of Termination of the Interconnection and Operating Agreement and Generator Imbalance Agreement between Entergy Arkansas and AES River Mountain L.P.

Comment Date: April 18, 2003.

8. Southwest Power Pool, Inc.

[Docket No. ER03-668-000]

Take notice that on March 28, 2003, Southwest Power Pool, Inc. (SPP) submitted for filing with the Federal Energy Regulatory Commission (Commission) an unexecuted Network Integration Transmission Service Agreement and an unexecuted Network Operating Agreement with Kansas Electric Power Cooperative, Inc. (KEPCO). SPP seeks an effective date of March 1, 2003 for these agreements. SPP states that the parties have agreed to all the terms and conditions for the underlying service, and SPP will submit executed signature pages to the Commission when obtained.

SPP states that KEPCO and Western Resources, the host transmission owner, were served with a copy of this filing.

Comment Date: April 18, 2003.

9. New York State Electric & Gas Corporation

[Docket Nos. ER03-669-000]

Take notice that on March 28, 2003, New York State Electric & Gas Corporation (NYSEG) tendered for filing with the Federal Energy Regulatory Commission (Commission) an executed Interconnection Agreement between NYSEG and Innovative Energy Systems, Inc. (Innovative) that sets forth the terms and conditions governing the interconnection between Innovative's generating facility in Seneca County, New York and NYSEG's transmission system.

NYSEG states that copies of this filing have been served upon Innovative, the New York State Public Service Commission, and the New York Independent System Operator, Inc.

Comment Date: April 18, 2003.

10. New York State Electric & Gas Corporation

[Docket Nos. ER03-670-000]

Take notice that on March 28, 2003, New York State Electric & Gas Corporation (NYSEG) tendered for filing with the Federal Energy Regulatory Commission (Commission) an executed Interconnection Agreement between NYSEG and Seneca Energy II, LLC (Seneca), that sets forth the terms and conditions governing the interconnection between the Seneca 11.2 MW generating plant and appurtenant facilities located in Seneca County, NY (the Plant) and NYSEG's transmission system.

NYSEG states that copies of this filing have been served upon Seneca, the New York State Public Service Commission, and the New York Independent System Operator, Inc.

Comment Date: April 18, 2003.

11. Southwest Power Pool, Inc.

[Docket No. ER03-671-000]

Take notice that on March 28, 2003, Southwest Power Pool, Inc. (SPP) submitted for filing an executed service agreement for Firm Point-to-Point Transmission Service with Western Resources d.b.a. Westar Energy (Western Resources). SPP seeks an effective date of March 1, 2003 for this service agreement.

SPP states that Western Resources was served with a copy of this filing.

Comment Date: April 18, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8763 Filed 4-9-03; 8:45 am]

BILLING CODE 6717-01-P